DEPARTMENT OF ENERGY

Federal Energy Regulatory Commission

[Docket No. RP98-40-037]

Panhandle Eastern Pipe Line Company, LP; Notice of Supplemental Refund Report

August 18, 2004.

Take notice that on August 11, 2004, Panhandle Eastern Pipe Line Company, LP (Panhandle) tendered for filing its Supplemental Refund Report. Panhandle states that the Commission issued an order on July 12, 2004 which rejected Panhandle's Refund Report, directed Panhandle to flowthrough to its customers amounts received from Southland Royalty Company / Burlington Resources Oil & Gas Company LP (Burlington), and required Panhandle to submit a refund report by August 11, 2004.

Panhandle states that a copy of this information is being sent to intervenors in the subject proceeding, Non-Settling First Sellers, Panhandle's affected customers, and respective State Regulatory Commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on August 25, 2004.

Linda Mitry,
Acting Secretary.

[FR Doc. E4-1900 Filed 8-24-04; 8:45 am]

BILLING CODE 6717-01-P